DEPARTMENT OF ENERGY

Federal Energy Regulatory Commission

[Docket No. OR08-14-000]

Cimmarron Gathering, L.P.; Notice of Request for Temporary Waiver of Tariff Filing and Reporting Requirements

November 19, 2008.

Take notice that on August 12, 2008, Cimmarron Gathering, L.P. (Cimmarron) tendered for filing an application for temporary waiver of the filing and reporting requirements of section 6 and section 20 of the Interstate Commerce Act.

In support thereof, Cimmarron states that its pipeline is a small crude oil line connecting Cimmarron's Pinkston Station in Texas to its Hewitt and Elmore stations in Oklahoma. Cimmarron further states that it owns 100 percent of the throughput transported on the pipeline. Cimmarron also states that there are no intermediate points on the pipeline and that no third party has requested the construction of any such intermediate point or otherwise expressed interest in becoming a shipper on the pipeline.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Comment Date: 5 p.m. Eastern Time December 5, 2008.

Kimberly D. Bose,
Secretary.

[FR Doc. E8-27922 Filed 11-24-08; 8:45 am]

BILLING CODE 6717-01-P